DEPARTMENT OF THE INTERIOR

Bureau of Land Management

[BLM_ID_FRN_MO4500177431]

Notice of Availability of the Final Environmental Impact Statement for the Proposed Lava Ridge Wind Project in Jerome, Lincoln, and Minidoka Counties, ID

AGENCY: Bureau of Land Management, Interior.

ACTION: Notice of availability.

SUMMARY: In compliance with the National Environmental Policy Act of 1969, as amended (NEPA), and the Federal Land Policy and Management Act of 1976, as amended (FLPMA), the Bureau of Land Management (BLM) announces the availability of the final environmental impact statement (EIS) for the Lava Ridge Wind Project.

DATES: The BLM will not issue a decision on the proposal for a minimum of 30 days after the date that the Environmental Protection Agency (EPA) publishes its Notice of Availability in the Federal Register.

ADDRESSES: The final EIS and documents pertinent to this proposal are available for review on the BLM ePlanning project website at https://eplanning.blm.gov/eplanning-ui/project/2013782/510 and in hardcopy at the BLM Shoshone Field Office, 400 West F Street, Shoshone, ID 83352.

FOR FURTHER INFORMATION CONTACT: Kasey Prestwich, Project Manager, telephone 208-732-7204; address BLM Shoshone Field Office, 400 West F Street, Shoshone, ID 83352; email kprestwich@blm.gov. Individuals in the United States who are deaf, deafblind, hard of hearing, or have a speech disability may dial 711 (TTY, TDD, or TeleBraille) to access telecommunications relay services for contacting Mr. Prestwich. Individuals outside the United States should use the relay services offered within their country to make international calls to the point-of-contact in the United States.

SUPPLEMENTARY INFORMATION:

Purpose and Need for the Proposed Action

Magic Valley Energy, LLC (MVE) has applied for a right-of-way (ROW) to construct, operate, maintain, and decommission the Lava Ridge Wind Project (the project), a wind energy facility and ancillary facilities primarily on BLM-administered public lands in Jerome, Lincoln, and Minidoka Counties, Idaho. The BLM's purpose is to respond to the ROW application submitted by MVE in compliance with FLPMA, BLM regulations, and other applicable Federal laws and policies. The need for the BLM's Proposed Action arises from FLPMA, which establishes a multiple use mandate for management of Federal lands, including “systems for generation, transmission, and distribution of electric energy” (FLPMA title V). The BLM will decide whether to grant, grant with modifications, or deny MVE's ROW application.

Proposed Action and Alternatives

Under Alternative A, the BLM would deny MVE's application for construction, operation, maintenance, and decommissioning of the project. The project facilities would not be built, and existing land uses and present activities in the area would continue. The land would continue to be available for other uses that are consistent with the BLM's Monument Resource Management Plan (1986) and its amendments, including the 2015 Idaho and Southern Montana Greater Sage-Grouse Approved Resource Management Plan Amendment. Federal and regional renewable energy goals would have to be met using other alternative energy projects at other locations.

Under Alternative B (Applicant Proposed Action), the BLM would authorize the wind energy facility as proposed by MVE, subject to certain terms and conditions. Alternative B could have up to 400 3-megawatt (MW) turbines or up to 349 6-MW turbines, or a combination of 3-MW and 6-MW turbines not to exceed 400. The maximum height of the turbines would be between 390 and 740 feet, depending on their MW capacity. Siting corridors would span 84,051 acres, with the project area footprint within these corridors totaling 9,114 acres.

Alternative C (Reduced Western Corridors) would reduce the project's footprint by authorizing project development except within specific corridors. Siting corridors in Alternative C would span 65,215 acres. Project activity would disturb 6,953 acres. The intent of this alternative is to avoid and minimize potential impacts to Wilson Butte Cave and Minidoka National Historic Site (NHS). Alternative C would also aim to encourage development in areas that have already been impacted by energy infrastructure and reduce the extent of wildlife habitat fragmentation.

Like Alternative C, Alternative D (Centralized Corridors) would reduce the project's footprint by authorizing project development except within specific siting corridors. Siting corridors in Alternative D would span 48,597 acres. Project activity would disturb 4,838 acres. Similar to Alternative C, Alternative D would focus on minimizing fragmentation of wildlife habitat and potential impacts to Wilson Butte Cave and Minidoka NHS. Alternative D would avoid development in areas that have higher sagebrush cover and protect functional Greater sage-grouse habitat. The reduced footprint would also avoid or minimize impacts to other resources and areas of concern.

Alternative E (Reduced Southern Corridors) would avoid and minimize potential impacts to Minidoka NHS. Alternative E builds from Alternative C but would further avoid and minimize potential impacts to Minidoka NHS by removing additional siting corridors from development. Siting corridors in Alternative E would span 50,680 acres. Project activity would disturb 5,136 acres.

The BLM has identified a Preferred Alternative based on a combination of elements of Alternatives B through E. The Preferred Alternative responds to resource impact concerns raised by Tribes, cooperating agencies, and the public through the public comments received on the draft EIS. The Preferred Alternative would reduce visual impacts to Minidoka NHS, reduce disturbance to big game migration routes and winter concentration areas, reduce impacts to Jerome County Airport and agricultural aviation uses, and reduce impacts to adjacent private landowners. The combination of Alternatives B-E for development of the Preferred Alternative included adjusting the siting corridor and infrastructure to avoid or minimize impacts while balancing development of the wind resource. The BLM considered results of the analysis of potential impacts prepared for the draft EIS; feedback from Tribes, agencies, and various interested parties; input from the BLM Idaho Resource Advisory Council's Lava Ridge Wind Project Subcommittee; new wildlife datasets provided by the Idaho Department of Fish and Game; and publicly available wind-speed information for the project area to develop the Preferred Alternative. Siting corridors in the Preferred Alternative would span 44,768 acres. Project activity would disturb 4,492 acres.

Compliance With NEPA, as Amended by the Fiscal Responsibility Act

In response to the amendments to NEPA under the Fiscal Responsibility Act of 2023 (FRA), Pub. L. 118-5, section 321(e)(1)(B), 42 U.S.C. 4336a(e), the BLM revised the organization of the final EIS so that it is under the FRA's 300-page limit for a proposed agency action of “extraordinary complexity.” The BLM moved the evaluation of certain environmental impacts that it determined not to be significant to an appendix.

Public Input

The BLM continues to engage in government-to-government consultation with the Shoshone-Bannock Tribes and the Shoshone-Paiute Tribes on the project. These Native American Tribes have expressed concerns focused on potential impacts to Wilson Butte Cave, wildlife, and the Shoshone-Bannock Tribes' Treaty rights. The BLM published a Notice of Availability for the draft EIS for the project in the Federal Register on January 20, 2023 (88 FR 3759). The notice began a 60-day public comment period, which was extended to 90 days ending on April 20, 2023. The BLM held public meetings on the draft EIS in February and March 2023. Meetings were held virtually and in person in Shoshone and Twin Falls, Idaho; Portland, Oregon; and Mercer Island, Washington. The BLM received a total of 11,179 submissions via mail, fax, email, ePlanning online comment form, and handwritten and verbal comments given to a transcriptionist at public meetings. The BLM considered comments within each submission and determined if comments were substantive or non-substantive. The BLM identified and categorized 3,303 individual substantive comments from the various submissions. Comments on the draft EIS received from the public and internal BLM review were considered and incorporated, as appropriate, into the final EIS. The final EIS includes all substantive comments with a BLM response.

The BLM conducted additional meetings in April and May 2024, with the Idaho Governor's Office; numerous Idaho state agencies; Friends of Minidoka; Minidoka Pilgrimage Planning Committee; Shoshone-Bannock Tribes; county commissioners from Jerome, Lincoln, and Minidoka counties; grazing permittees; other Federal agencies; and others, consistent with Section 441, Division E, of Public Law 118-42, the Consolidated Appropriations Act, 2024.

Public comments informed clarifying text, developing the Preferred Alternative, developing new issue statements, identifying project-specific interim Visual Resource Management classes, and refining a mitigation framework.

(Authority: 40 CFR 1506.6, 40 CFR 1506.10)

Michael Courtney,
BLM Twin Falls District Manager.

[FR Doc. 2024-12460 Filed 6-6-24; 8:45 am]

BILLING CODE 4331-21-P